DEPARTMENT OF HOMELAND SECURITY

Federal Emergency Management Agency

44 CFR Part 65

Changes in Flood Elevation Determinations

AGENCY: Federal Emergency Management Agency (FEMA), Emergency Preparedness and Response Directorate, Department of Homeland Security.

ACTION: Final rule.

SUMMARY: Modified Base (1% annual chance) Flood Elevations (BFEs) are finalized for the communities listed below. These modified elevations will be used to calculate flood insurance premium rates for new buildings and their contents.

EFFECTIVE DATES: The effective dates for these modified BFEs are indicated on the following table and revise the Flood Insurance Rate Map(s) (FIRMs) in effect for each listed community prior to this date.

ADDRESSES: The modified BFEs for each community are available for inspection at the office of the Chief Executive Officer of each community. The respective addresses are listed in the table below.

FOR FURTHER INFORMATION CONTACT: Doug Bellomo, P.E., Hazard Identification Section, Emergency Preparedness and Response Directorate, FEMA, 500 C Street, SW., Washington, DC 20472, (202) 646-2903.

SUPPLEMENTARY INFORMATION: FEMA makes the final determinations listed below of modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified base flood elevation determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State or regional entities.

These modified elevations are used to meet the floodplain management requirements of the NFIP and are also used to calculate the appropriate flood insurance premium rates for new buildings built after these elevations are made final, and for the contents in these buildings.

The changes in BFEs are in accordance with 44 CFR 65.4.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Alabama:
Jefferson (FEMA Docket No. D-7541) | City of Birmingham | May 13, 2003, May 20, 2003, The Birmingham News | The Honorable Bernard A. Kincaid, Mayor of the City of Birmingham, Birmingham City Hall, 710 North 20th Street, Birmingham, Alabama 35203 | May 6, 2003 | 010116 E
Montgomery (FEMA Docket No. D-7543) | City of Montgomery | May 28, 2003, June 4, 2003, Montgomery Advertiser | The Honorable Bobby N. Bright, Mayor of the City of Montgomery, City Hall, P.O. Box 1111, Montgomery, Alabama 36101-1111 | Aug. 5, 2003 | 010174 G
Connecticut:
Fairfield (FEMA Docket No. D-7541) | Town of Greenwich | May 6, 2003, May 13, 2003, Greenwich Time | Mr. Richard Bergstresser, Town of Greenwich First Selectman, Town Hall, 101 Field Point Road, Greenwich, Connecticut 06830 | Apr. 28, 2003 | 090008 C
Delaware:
New Castle (FEMA Docket No. D-7543) | Unincorporated Areas | July 3, 2003, July 10, 2003 The News Journal | Mr. Thomas P. Gordon, New Castle County Executive, New Castle County Government Center, 87 Reads Way, New Castle, Delaware 19720 | Oct. 9, 2003 | 105085 G&H
Florida:
Dade (FEMA Docket No. D-7543) | City of Miami | July 7, 2003, July 14, 2003, The Miami Herald | The Honorable Manuel A. Diaz, Mayor of the City of Miami, 3500 Pan American Drive, Miami, Florida 33133 | July 26, 2003 | 120650 J
Santa Rosa (FEMA Docket No. D-7543) | Unincorporated Areas | June 4, 2003, June 11, 2003, The Press Gazette | Mr. Hunter Walker, Santa Rosa County Administrator, 6495 Caroline Street, Suite D, Milton, Florida 32570-4592 | May 28, 2003 | 120274 C
Hillsborough (FEMA Docket No. D-7541) | City of Tampa | May 20, 2003, May 27, 2003, St. Petersburg Times | The Honorable Dick A. Greco, Mayor of the City of Tampa, 306 East Jackson Street, First Floor, Tampa, Florida 33602 | May 12, 2003 | 120114 C
Georgia:
Bryan (FEMA Docket No. D-7543) | Unincorporated Areas | June 19, 2003, June 26, 2003, Bryan County News | Mr. Brooks Warnell, Chairman of the Bryan County Board of Commissioners, P.O. Box 430, Pembroke, Georgia 31321 | Sept. 25, 2003 | 130016 A
Chatham (FEMA Docket No. D-7541) | City of Savannah | May 22, 2003, May 29, 2003, Savannah Morning News | The Honorable Floyd Adams, Jr., Mayor of the City of Savannah, P.O. Box 1027, Savannah, Georgia 31402 | May 15, 2003 | 135163 C
Maine:
Camden (FEMA Docket No. D-7543) | Town of Camden | June 26, 2003, July 3, 2003, The Camden Herald | Ms. Roberta Smith, Camden Town Manager, P.O. Box 1207, Camden, Maine 04843 | June 18, 2003 | 230074 B
Massachusetts:
Plymouth (FEMA Docket No. D-7539) | Town of Plymouth | April 9, 2003, April 16, 2003, Old Colony Memorial | Ms. Eleanor Beth, Plymouth Town Manager, Plymouth Town Hall, 11 Lincoln Street, Plymouth, Massachusetts 02360 | Apr. 1, 2003 | 250278 C
Pennsylvania:
Chester (FEMA Docket No. D-7543) | Township of East Fallowfield | July 2, 2003, July 9, 2003, Daily Local News | Mr. Earl Emel, Chairman of the Township of East Fallowfield Board of Supervisors, 2264 Strasburg Road, East Fallowfield, Pennsylvania 19320 | June 25, 2003 | 421479 D
Lebanon (FEMA Docket No. D-7543) | Township of North Cornwall | June 13, 2003, June 20, 2003, Lebanon Daily News | Ms. Robin Getz, Lebanon County Planning and Zoning Department, 400 South Eight Street, Lebanon, Pennsylvania 17042 | Sept. 19, 2003 | 420576 C
Wyoming (FEMA Docket No. D-7541) | Township of Tunkhannock | April 30, 2003, May 7, 2003, The New Age Examiner | Mr. Randy L. White, Chairman of the Township of Tunkhannock Board of Commissioners, Township Building, 438 State Route 92 South, Tunkhannock, Pennsylvania 18657 | Apr. 23, 2003 | 422206 C
South Carolina:
Richland (FEMA Docket No. D-7543) | Unincorporated Areas | June 5, 2003, June 12, 2003, The State | Mr. T. Cary McSwain, Richland County Administrator, 2020 Hampton Street, P.O. Box 192, Columbia, South Carolina 29202 | May 29, 2003 | 450170 H

(Catalog of Federal Domestic Assistance No. 83.100, “Flood Insurance”)
Dated: February 3, 2004.
Anthony S. Lowe,
Mitigation Division Director, Emergency Preparedness and Response Directorate.

[FR Doc. 04-2791 Filed 2-9-04; 8:45 am]

BILLING CODE 9110-12-P